DEPARTMENT OF STATE

[Public Notice: 11994]

Bureau of Political-Military Affairs, Directorate of Defense Trade Controls: Notifications to the Congress of Proposed Commercial Export Licenses

SUMMARY: The Directorate of Defense Trade Controls and the Department of State give notice that the attached Notifications of Proposed Commercial Export Licenses were submitted to the Congress on the dates indicated.

DATES: The dates of notification to Congress are as shown on each of the 24 letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in timely manner.

The following comprise recent such notifications and are published to give notice to the public.

October 3, 2022

The Honorable Nancy Pelosi, Speaker of the House of Representatives.

Dear Madam Speaker:

Pursuant to Sections 36(c) and 36(d) of the Arms Export Control Act, please find enclosed a certification of a proposed license for the manufacture of significant military equipment abroad and the export of defense articles, including technical, data and defense services, abroad controlled under Category I of the U.S. Munitions List in the amount of $1,000,000 or more.

The transaction contained in the attached certification involves the export of defense articles, including technical data, and defense services, to Italy and Qatar to support the manufacture, integration, assembly, operation, training, testing, and maintenance of upper and lower receivers and weapon assemblies.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-021.

October 20, 2022

The Honorable Nancy Pelosi, Speaker of the House of Representatives.

Dear Madam Speaker:

Pursuant to Sections 36(c) and 36(d) of the Arms Export Control Act, please find enclosed a certification of a proposed amendment for the manufacture of significant military equipment abroad and the export of defense articles, including technical data, and defense services, in the amount of 50,000,000 or more.

The transaction contained in the attached certification involves the export of defense articles, including technical data, and defense services, to Australia, Japan, and Singapore for the manufacture of radios in Japan.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-012.

October 20, 2022

The Honorable Nancy Pelosi, Speaker of the House of Representatives.

Dear Madam Speaker:

Pursuant to Section 36(c) of the Arms Export Control Act, please find enclosed a certification of a proposed license amendment for the export of defense articles, including technical data, and defense services, in the amount of $50,000,000 or more.

The transaction contained in the attached certification involves the export of defense articles, including technical data, and defense services, to Australia and New Zealand to support the ongoing engineering, maintenance, and logistics support for “Through Life Support Services” and sustainment of the C-130J Hercules aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-023.

October 20, 2022

The Honorable Nancy Pelosi, Speaker of the House of Representatives.

Dear Madam Speaker:

Pursuant to Section 36(c) of the Arms Export Control Act, please find enclosed a certification of a proposed license for the export of firearms, parts, and components abroad, including technical data, and defense services controlled under Category I of the U.S. Munitions List in the amount of $1,000,000 or more.

The transaction contained in the attached certification involves the export to Jordan of intermediate level maintenance and conversion training, technical support, and specific parts in support of a small arms rifle upgrade program.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-027.

October 20, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction contained in the attached certification involves the export of defense articles, including technical data, and defense services to Australia and the Republic of Korea to support the Compliance Upgrade Program (KCUP) for Airborne Early Warning and Control System aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-029.

October 20, 2022

The Honorable Nancy Pelosi, Speaker of the House of Representatives.

Dear Madam Speaker:

Pursuant to Section 36(c) of the Arms Export Control Act, please find enclosed a certification of a proposed license for the export of defense articles, including technical data, and defense services, in the amount of $50,000,000 or more.

The transaction contained in the attached certification involves the export of defense articles, including technical data, and defense services, to Qatar to support the sustainment, training, logistics, and repair services for the F-15QA aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-030.

October 20, 2022

The Honorable Nancy Pelosi, Speaker of the House of Representatives.

Dear Madam Speaker:

Pursuant to Section 36(c) of the Arms Export Control Act, please find enclosed a certification of a proposed license for the export of defense articles, including technical data, and defense services, in the amount of $50,000,000 or more.

The transaction contained in the attached certification involves the export of defense articles, including technical data, and defense services, to the Kingdom of Saudi Arabia, Italy, and Australia for the sale, delivery, installation, and support of radar systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-032.

October 20, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction contained in the attached certification involves the export of defense articles, including technical data, and defense services, to Canada, Germany, and the UK to support the Reconnaissance Surveillance System.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-033.

October 20, 2022

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Denmark of 7.62mm machineguns and spare barrels.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-047.

November 3, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction contained in the attached certification involves the export of defense articles, including technical data, and defense services, to Germany and the Netherlands to support the integration, installation, testing and training of the MK41 Vertical Launch System.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-037.

November 3, 2022

The Honorable Nancy Pelosi, Speaker of the House of Representatives.

Dear Madam Speaker:

Pursuant to Sections 36(c) and 36(d) of the Arms Export Control Act, please find enclosed a certification of a proposed amendment for the manufacture of significant military equipment abroad and the export of defense articles, including technical data, and defense services, in the amount of $100,000,000 or more.

The transaction contained in the attached certification involves the export of defense articles, including technical data, and defense services, to the UK and Canada to support the design, manufacture, integration, operation, test, and maintenance of missile electronic assemblies.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-038.

November 3, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction involves the transfer of classified and unclassified technical data, defense articles, and defense services to Australia in support of an Australia/United States decoy system.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-040.

November 3, 2022

The Honorable Nancy Pelosi, Speaker of the House of Representatives.

Dear Madam Speaker:

Pursuant to Section 36(c) of the Arms Export Control Act, please find enclosed a certification of a proposed license amendment for the export of defense articles, including technical data, and defense services, in the amount of $50,000,000 or more.

The transaction contained in the attached certification involves the export of defense articles, including technical data and defense services, to Austria to support the modernization, upgrade, integration, installation, operation, training, testing, maintenance, and repair of the Austrian Integrated Flight Deck (AIFD) for S-70 Blackhawk Helicopters.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-042.

November 21, 2022

The Honorable Nancy Pelosi, Speaker of the House of Representatives.

Dear Madam Speaker:

Pursuant to Sections 36(c) and 36(d) of the Arms Export Control Act, please find enclosed a certification of a proposed amendment for the manufacture of significant military equipment abroad and the export of defense articles, including technical data, and defense services, in the amount of $100,000,000 or more.

The transaction contained in the attached certification involves the export of defense articles, including technical data, and defense services, to Japan in support of the design, development, modification, manufacture, assembly, test, qualification, maintenance, operation, analysis, repair of the components for the STANDARD Missile-3 weapon system.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip G. Laidlaw,

Acting Assistant Secretary, Bureau of Legislative Affairs.

Enclosure: Transmittal No. DDTC 22-048.

November 21, 2022

The Honorable Nancy Pelosi, Speaker of the House of Representatives.

Dear Madam Speaker:

Pursuant to Section 36(c) of the Arms Export Control Act, please find enclosed a certification of a proposed license for the export of defense articles, including technical data, and defense services, in the amount $100,000,000 or more.

The transaction contained in the attached certification involves the export of defense articles, including technical data, and defense services to Japan of magnetic detection equipment.

The U.S. government is prepared to license the export of these items having considered political, military, economic, human rights, and arms control considerations.

More detailed information is contained in the formal certification which, though unclassified, contains business information submitted to the Department of State by the applicant, publication of which could cause competitive harm to the U.S. firm concerned.

Sincerely,

Philip G. Laidlaw,

Acting Assistant Secretary, Bureau of Legislative Affairs.

Enclosure: Transmittal No. DDTC 22-050.

November 21, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction contained in the attached certification involves the export of defense articles, including technical data, and defense services, to Italy to support the integration, modification, and installation of the Joint Airborne Multi-Mission Multi-Sensor System (JAMMS).

The U.S. government is prepared to license the export of these items having taken into account political, military, economic, human rights, and arms control considerations.

More detailed information is contained in the formal certification which, though unclassified, contains business information submitted to the Department of State by the applicant, publication of which could cause competitive harm to the U.S. firm concerned.

Sincerely,

Philip G. Laidlaw,

Acting Assistant Secretary, Bureau of Legislative Affairs.

Enclosure: Transmittal No. DDTC 22-052.

November 25, 2022

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export to Brazil of 5.56mm automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip Laidlaw,

Acting Assistant Secretary, Bureau of Legislative Affairs.

Enclosure: Transmittal No. DDTC 22-018.

November 25, 2022

The Honorable Nancy Pelosi, Speaker of the House of Representatives.

Dear Madam Speaker:

Pursuant to Section 36(d) of the Arms Export Control Act, please find enclosed a certification of a proposed license for the export of defense articles, including technical data, and defense services for the manufacture of significant military equipment abroad.

The transaction contained in the attached certification involves the export of defense articles, including technical data, and defense services to Norway, Sweden, and Spain for the design, development and manufacture of small and medium caliber ammunition up to 50mm.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip Laidlaw,

Acting Assistant Secretary, Bureau of Legislative Affairs.

Enclosure: Transmittal No. DDTC 22-053.

November 25, 2022

The Honorable Nancy Pelosi, Speaker of the House of Representatives.

Dear Madam Speaker:

Pursuant to Section 36(c) of the Arms Export Control Act, please find enclosed a certification of a proposed license amendment for the export of defense articles, including technical data, and defense services, in the amount of $100,000,000 or more.

The transaction contained in the attached certification involves the export of defense articles, including technical data, and defense services, to Italy to support the manufacture, production, test, and inspection of wing assemblies and sub-assemblies for aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip Laidlaw,

Acting Assistant Secretary, Bureau of Legislative Affairs.

Enclosure: Transmittal No. DDTC 22-054.

December 2, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction contained in the attached certification involves the export of defense articles, including technical data, and defense services, to Belgium and the Netherlands to support the supply of the Command and Liaison Vehicles and associated spare parts, special tools, test equipment, training, and technical support.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-041.

December 2, 2022

The Honorable Nancy Pelosi, Speaker of the House of Representatives.

Dear Madam Speaker:

Pursuant to Section 36(c) of the Arms Export Control Act, please find enclosed a certification of a proposed license for the export of defense articles, and technical data, in the amount of $50,000,000 or more.

This transaction contained in the attached certification involves the transfer of defense articles and technical data to Ukraine for light-weight UAVs.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-044.

December 8, 2022

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export of 5.56mm automatic rifles to Estonia.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-056.

December 15, 2022

The Honorable Nancy Pelosi, Speaker of the House of Representatives.

Dear Madam Speaker:

Pursuant to Section 36(c) of the Arms Export Control Act, please find enclosed a certification of a proposed license for the export of defense articles, including technical data, and defense services, in the amount of $100,000,000 or more.

The transaction contained in the attached certification involves the export of defense articles, including technical data, and defense services to Canada and Germany to support the production, structural design, system provisioning, integration, testing, delivery, and certification of the Bombardier Global 6000 Series aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-039.

December 15, 2022

The Honorable Nancy Pelosi, Speaker of the House of Representatives.

Dear Madam Speaker:

Pursuant to Section 36(c) of the Arms Export Control Act, please find enclosed a certification of a proposed license amendment for the export of defense articles, including technical data, and defense services, in the amount of $50,000,000 more.

The transaction contained in the attached certification involves the export of defense articles, including technical data, and defense services, to the Republic of Korea to support the manufacture of jet trainer aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-049.

Zachary A. Parker,
Director, Office of Directives Management, U.S. Department of State.

[FR Doc. 2023-03170 Filed 2-14-23; 8:45 am]

BILLING CODE 4710-25-P